ENVIRONMENTAL PROTECTION AGENCY

[OAR-2003-0097, FRL-7519-6]

Agency Information Collection Activities: Proposed Collection; Comment Request; EPA's Mobile Air Conditioner Retrofitting Program

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Information Collection Activities Associated with EPA's Mobile Air Conditioner Retrofitting Program; EPA ICR Number 1774.03, OMB Number 2060-0350, expiring September 30, 2003. Before submitting the ICR to OMB for review and approval, EPA is soliciting comments on specific aspects of the proposed information collection as described below.

DATES: Comments must be submitted on or before August 26, 2003.

ADDRESSES: Comments may be submitted electronically, by mail, or through hand delivery/courier. Follow the detailed instructions as provided below in SUPPLEMENTARY INFORMATION.

FOR FURTHER INFORMATION CONTACT: Dave Godwin, Global Programs Division, Office of Atmospheric Programs, Mail Code 6205J, Environmental Protection Agency, 1200 Pennsylvania Ave., NW., Washington, DC 20460; telephone number: 202-564-3517; fax number: 202-565-2155; email address: Godwin.Dave@epa.gov.

SUPPLEMENTARY INFORMATION: EPA has established a public docket for this ICR under Docket ID number OAR-2003-0097, which is available for public viewing at the Air and Radiation Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket is (202) 566-1742. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice, and according to the following detailed instructions: Submit your comments to EPA online using EDOCKET (our preferred method), by email to a-and-r-Docket@epa.gov, or by mail to: EPA Docket Center, Environmental Protection Agency, Air and Radiation Docket, Mail Code 6102T, 1200 Pennsylvania Ave., NW., Washington, DC 20460.

EPA's policy is that public comments, whether submitted electronically or in paper, will be made available for public viewing in EDOCKET as EPA receives them and without change, unless the comment contains copyrighted material, Confidential Business Information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are new and used car dealers, gas service stations, top and body repair shops, and general automotive repair shops (including air conditioning and radiator specialty shops).

Title: Information Collection Activities Associated with EPA's Mobile Air Conditioner Retrofitting Program (OMB Control Number 2060-0350; EPA ICR Number 1774.03 expiring 9/30/2003).

Abstract: Section 612 of the Clean Air Act (CAA) requires EPA to promulgate rules making it unlawful to replace any ozone-depleting substance with any substitute that the Administrator determines may present adverse effects to human health or the environment where the Administrator has identified an alternative that (1) reduces the overall risk to human health and the environment, and (2) is currently or potentially available. In 1994, the Significant New Alternatives Policy (SNAP) Program was enacted, enabling the Agency to review available substitutes for ozone-depleting substances and determine their acceptability. The SNAP program includes review of potential alternatives to ozone-depleting refrigerants used for air conditioning motor vehicles. EPA is concerned that the existence of several substitutes in this end-use may increase the likelihood of significant refrigerant cross-contamination and potential failure of both air conditioning systems and recovery/recycling equipment. In addition, continuing the smooth transition to the use of substitutes strongly depends on the continued purity of the recovered, recycled and/or reclaimed R-12 supply. The purpose of this Information Collection Request (ICR) is to estimate the burden associated with the 40 Code of Federal Regulations (CFR) Part 82 requirement that service technicians label mobile air conditioners with information about new refrigerants when they retrofit a system. These labels acknowledge that the retrofitting has been completed and that the mobile air conditioner should no longer use chlorofluorocarbon (CFC) refrigerant. In addition, the labels provide essential information to technicians about the specific refrigerant used in the air conditioning system. The following information is required on the label:

• The name and address of the technician and the company performing the retrofit.

• The date of the retrofit.

• The trade name, charge amount, and, when applicable, the numerical designation of the refrigerant as determined under the latest version of Standard 34 of the American Society of Heating, Refrigerating, and Air-conditioning Engineers (ASHRAE), Inc.

• The type, manufacturer, and amount of lubricant used.

• If the refrigerant is or contains an ozone-depleting substance, the phrase “ozone depleter”.

• If the refrigerant displays flammability limits as measured according to latest version of Standard E681 of the American Society for Testing and Materials (ASTM) International, the statement “This refrigerant is FLAMMABLE. Take appropriate precautions.”

This information assists the technician in avoiding service practices that might result in cross-contamination, system failure and/or system performance degradation. Responses to the collection information are mandatory (section 612 of the CAA and 40 CFR part 82). An agency may not conduct or sponsor, and a person is not required to respond to, a collection of information unless it displays a currently valid OMB control number. The OMB control numbers for EPA's regulations are listed in 40 CFR part 9 and 48 CFR chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The U.S. Department of Labor statistics indicate there are 168,630 automotive body and related repairers (Standard Occupation Classification [SOC] System Code Number 49-3021) and 701,150 automotive service technicians and mechanics (SOC Code Number 49-3023) in the U.S., some of whom will be responsible for retrofitting an estimated 3,000,000 motor vehicle air conditioners by September 30, 2006, the date this ICR will expire. EPA estimates the time to complete and apply the label at 5 minutes per instance, making the total burden 250,000 hours. At an average labor rate of $70 per hour, the overall cost associated with the burden hours is $17,500,000. The cost for designing, typesetting, printing and distributing 3,000,000 labels is estimated to be $300,000 ($0.10 per label). Adding the labor and capital costs together yields a total cost burden of $17,800,000. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 19, 2003.
Edward Callahan,
Acting Director, Office of Atmospheric Programs.

[FR Doc. 03-16330 Filed 6-26-03; 8:45 am]

BILLING CODE 6560-50-P